DEPARTMENT OF COMMERCE

International Trade Administration

[A-580-886]

Ferrovanadium From the Republic of Korea: Final Results of Antidumping Duty Administrative Review and Final Determination of No Shipments in Part; 2018-2019

AGENCY: Enforcement and Compliance, International Trade Administration, Department of Commerce.

SUMMARY: The Department of Commerce (Commerce) continues to find that two of the three companies under review had no shipments of subject merchandise during the period of review (POR), May 1, 2018 through April 30, 2019, and continues to base the dumping margin for the third company on total adverse facts available (AFA).

DATES: Applicable July 10, 2020.

FOR FURTHER INFORMATION CONTACT: Howard Smith, AD/CVD Operations, Office IV, Enforcement and Compliance, International Trade Administration, U.S. Department of Commerce, 1401 Constitution Avenue NW, Washington, DC 20230; telephone: (202) 482-5193.

SUPPLEMENTARY INFORMATION:

Background

Commerce published its Preliminary Results of this review on March 23, 2020.¹ No parties commented on the Preliminary Results.

¹ See Ferrovanadium From the Republic of Korea: Preliminary Results of Antidumping Duty Administrative Review and Preliminary Determination of No Shipments in Part; 2018-2019, 85 FR 16326 (March 23, 2020) (“Preliminary Results”), and accompanying Preliminary Decision Memorandum.

Scope of the Order

The product covered by the order is all ferrovanadium regardless of grade (i.e., percentage of contained vanadium), chemistry, form, shape, or size. Ferrovanadium is an alloy of iron and vanadium. Ferrovanadium is classified under Harmonized Tariff Schedule of the United States (HTSUS) item number 7202.92.0000. Although this HTSUS item number is provided for convenience and customs purposes, the written description of the scope of the order is dispositive.

Final Results of Review

In the Preliminary Results, Commerce determined that Korvan Ind, Co., Ltd. (Korvan) and Woojin Ind. Co., Ltd. (Woojin), had no shipments of subject merchandise to the United States during the POR and based the dumping margin for Fortune Metallurgical Group Co., Ltd. (Fortune) on total AFA in accordance with section 776(a)-(b) of the Act because Fortune did not respond to Commerce's questionnaire.² No parties commented on the Preliminary Results.

² Id.

In these final results of review, Commerce is adopting the decisions taken in the Preliminary Results, as explained in the Preliminary Decision Memorandum. Specifically, Commerce continues to find that Korvan and Woojin had no shipments of subject merchandise to the United States during the POR and continues to assign Fortune a dumping margin of 54.69 percent based on total AFA.

Final Results of Administrative Review

Commerce has determined that the following weighted-average dumping margin exists for the firm listed below for the period May 1, 2018 through April 30, 2019:

Exporter/producer | Estimated weighted-average dumping margin (percent)
Fortune Metallurgical Group Co., Ltd | 54.69

Assessment Rates

Commerce has determined, and U.S. Customs and Border Protection (CBP) shall assess, antidumping duties on all appropriate entries of subject merchandise covered by this review in accordance with these final results of review.³ Commerce intends to issue assessment instructions to CBP 15 days after publication of this notice of final results in the Federal Register. Commerce intends to instruct CBP to liquidate POR entries of subject merchandise from Fortune Metallurgical Group Co., Ltd. at the rate listed in the table above.

³ See section 751(a)(2)(A) of the Act; 19 CFR 351.212(b).

Additionally, because Commerce determines that Korvan and Woojin did not make any sales or shipments of subject merchandise to the United States during the POR, any suspended entries of subject merchandise during the POR under their case numbers will be liquidated at the all-others rate.⁴

⁴ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Cash Deposit Requirements

The following cash deposit requirements will be effective for shipments of ferrovanadium from the Republic of Korea entered, or withdrawn from warehouse, for consumption on or after the publication date of these final results of review, as provided for by section 751(a)(2)(C) of the Tariff Act of 1930, as amended (the Act): (1) The cash deposit rate for Fortune will be equal to the weighted-average dumping margin listed for Fortune in the table above; (2) for companies not covered by this review, but covered in a prior segment of this proceeding, the cash deposit rate will continue to be the company-specific rate established for the company in the most recently completed segment of the proceeding; (3) if the exporter is not a firm covered in this review, in a prior review, or in the investigation in this proceeding but the producer is, then the cash deposit rate will be the rate established for the producer of the merchandise in the most recently completed segment of the proceeding; and (4) the cash deposit rate for all other producers or exporters will continue to be 3.22 percent, the all-others rate established in the less-than-fair-value investigation.⁵ These cash deposit requirements, when imposed, shall remain in effect until further notice.

⁵ See Ferrovanadium From the Republic of Korea: Final Determination of Sales at Less Than Fair Value, 82 FR 14874 (March 23, 2017).

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order (APO)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

We are issuing these final results of administrative review and publishing this notice in accordance with sections 751(a)(1) and 777(i) of the Act and 19 CFR 351.213 and 19 CFR 351.221(b)(5).

Dated: July 2, 2020.
Jeffrey I. Kessler,
Assistant Secretary for Enforcement and Compliance.

[FR Doc. 2020-14917 Filed 7-9-20; 8:45 am]

BILLING CODE 3510-DS-P